DEPARTMENT OF THE INTERIOR

Fish and Wildlife Service

Comprehensive Conservation Plans and an Environmental Impact Statement for Monomoy and Nomans Land Island National Wildlife Refuges

AGENCY: Fish and Wildlife Service, Department of the Interior.

ACTION: Notice of intent.

SUMMARY: This notice advises the public that the U.S. Fish and Wildlife Service (Service) intends to gather information necessary to prepare Comprehensive Conservation Plans (CCP) for Monomoy and Nomans Land Island National Wildlife Refuges (NWR) and an associated Environmental Impact Statement (EIS). The CCPs/EIS will present management alternatives and analyze the effects of implementing the management actions. The refuges are a part of the Eastern Massachusetts NWR Complex and are located in Barnstable and Dukes Counties, Massachusetts, respectively. The EIS will be prepared pursuant to section 102(2)C of the National Environmental Policy Act and its implementing regulations. The CCPs of three refuges within the Eastern Massachusetts NWR Complex (Great Meadows, Oxbow, and Assabet River NWRs) are in final development, and the remaining three refuges of the Eastern Massachusetts NWR Complex (Mashpee, Massasoit, and Nantucket NWRs) will be evaluated under separate process(es).

This notice amends previous notices, published on February 24, 1999, that stated an EIS would be developed for all eight units of the complex (previously called Great Meadows National Wildlife Refuge Complex), and on February 15, 2001, that stated an EIS would be developed for three units (Monomoy, Nantucket, and Nomans Land Island NWRs). Comments already received for these refuges under the previous notices will be considered. The Service invites agencies, groups, and the public to submit any additional comments concerning the scope of issues to be addressed, as well as possible management alternatives and environmental impacts to consider in the EIS. We will hold public meetings regarding the CCP process in the near future. Notices of such meetings will be advertised in the local newspaper, announced on the refuge Web site, and sent to the refuge CCP mailing list. If you would like to be included on the mailing list, please contact Bill Perry at the address listed below.

The Service is furnishing this notice in compliance with the National Wildlife Refuge System Administration Act of 1966, as amended (16 U.S.C. 668dd et seq.):

(1) To advise other agencies and the public of our intentions, and

(2) To obtain suggestions and information on the scope of issues to include in the environmental documents.

DATES: Inquire at the following address for dates of planning activity. Comments concerning the scope of issues to be addressed must be submitted by January 27, 2005.

Send Comments To: Bill Perry, Refuge Planner, 73 Weir Hill Road, Sudbury, Massachusetts 01776, or e-mail comments to northeastplanning@fws.gov with a subject line stating “Monomoy and Nomans Land Island NWRs.”

FOR FURTHER INFORMATION CONTACT: Bill Perry, Refuge Planner, 73 Weir Hill Road, Sudbury, Massachusetts 01776, 978-449-4661 extension 32, or e-mail Bill_Perry@fws.gov. Information will be periodically updated on the refuge Web site at http://monomoy.fws.gov.

SUPPLEMENTARY INFORMATION: In accordance with the National Wildlife Refuge Improvement Act of 1997, all lands within the National Wildlife Refuge System are to be managed in accordance with an approved CCP. The CCP guides management decisions and identifies refuge goals, long-range objectives, and strategies for achieving refuge purposes. The planning process will consider many elements, including habitat and wildlife management, habitat protection, public use, and cultural resources. Public input into this planning process is essential. The CCP will provide other agencies and the public with a clear understanding of the desired conditions for the refuges and how the Service will implement management strategies.

The Service has already solicited information from the public via open houses, meetings, and written comments. Special mailings, newspaper articles, and announcements will continue to inform people in the general area near the refuges of the time and place of opportunities for further public input to the CCP.

The Eastern Massachusetts NWR Complex is a diverse group of coastal and inland refuges. Habitats include forest, field, riparian, barrier island beach, freshwater marsh, and pond. Monomoy NWR contains 7,604 acres in a combination of land and open water. With the exception of approximately 300 acres, all of the land area is a designated Federal Wilderness Area. Nomans Land Island NWR contains 628 acres.

Review of this project will be in accordance with the requirements of the National Environmental Policy Act of 1969, as amended (42 U.S.C. 4321 et seq.), NEPA regulations (40 CFR 1500-1508), other appropriate laws and regulations, and Service policies and procedures for compliance with those regulations. Concurrent with the CCP process we will conduct a wilderness review of Nomans Land Island and the non-wilderness portion of South Monomoy Island and incorporate a summary of the review into the CCP. Wilderness review is the process we use to determine if we should recommend National Wildlife Refuge System lands and waters to Congress for wilderness designation.

We estimate that the draft environmental documents will be available December 2005 for public review and comment.

Dated: October 1, 2004.
Marvin E. Moriarty,
Regional Director, U.S. Fish and Wildlife Service, Hadley, Massachusetts.

[FR Doc. 04-27279 Filed 12-10-04; 8:45 am]

BILLING CODE 4310-55-P